MILLENNIUM CHALLENGE CORPORATION

[MCC FR 19-04]

Millennium Challenge Corporation Economic Advisory Council Call for Nominations

AGENCY: Millennium Challenge Corporation.

ACTION: Notice.

SUMMARY: In accordance with the requirements of the Federal Advisory Committee Act, 5 U.S.C.—App., the Millennium Challenge Corporation (MCC) is hereby soliciting representative nominations for the MCC Economic Advisory Council (“The EAC”). The EAC serves MCC in a solely advisory capacity and provides advice and guidance to economists, evaluators, leadership of the Department of Policy and Evaluation (DPE), and senior MCC leadership regarding relevant trends in development economics, applied economic and evaluation methods, poverty analytics, as well as modeling, measuring, and evaluating development interventions, including without limitation social and gender inclusion. In doing so, an overarching purpose of the EAC is to sharpen MCC's analytical methods and capacity in support of continuing development effectiveness. It also serves as a sounding board and reference group for assessing and advising on strategic policy innovations and methodological directions in MCC.

The EAC focuses on issues related to the analytical products and strategy used as inputs to compact and threshold program development and decision making, on learning from MCC experience about program effectiveness and impact, and to reflect on the broader global development trends and context of MCC's work. The EAC provides advice, recommendations, and guidance from experts in academia and the international development community on the design and implementation of programs in a structured and integrated manner.

The EAC is seeking members from a range of academic organizations, independent think tanks, and international development agencies to add to its current membership. Members will be chosen to represent a diversity of expertise, background and geographic experience.

Additional information about MCC and its portfolio can be found at www.mcc.gov.

DATES: Nominations for EAC members must be received on or before 5 p.m. EDT on August 2, 2019. Further information about the nomination process is included below.

MCC plans to host the next EAC meeting in late 2019. The Council will meet at least one time per year in Washington, DC or via video/teleconferencing.

ADDRESSES: All nomination materials or requests for additional information should be emailed to MCC's Economic Advisory Council Designated Federal Officer, Brian Epley at MCCEACouncil@mcc.gov or mailed to Millennium Challenge Corporation, Attn: Brian Epley, 1099 14th St. NW, Suite 700, Washington, DC 20005.

FOR FURTHER INFORMATION CONTACT: Brian Epley, 202.772.6515, MCCEACouncil@mcc.gov or visit www.mcc.gov/about/org-unit/economic-advisory-council.

SUPPLEMENTARY INFORMATION: The EAC shall consist of not more than twenty (20) individuals who are recognized experts in their field, academics, innovators and thought leaders representing (without limitation) academic organizations, independent think tanks, international development agencies, multilateral and regional development financial institutions, and foundations. Efforts will be made to include expertise from developing countries, within the resource constraints of the MCC to support logistic costs.

Qualified individuals may self-nominate or be nominated by any individual or organization. To be considered for the EAC, nominators should submit the following information:

• Name, title, organization and relevant contact information (including phone and email address) of the individual under consideration;

• A letter containing a brief biography for the nominee and description why the nominee should be considered for membership;

• CV including professional and academic credentials;

Please do not send company, or organization brochures or any other information. Materials submitted should total two pages or less, excluding CV. Should more information be needed, MCC staff will contact the nominee, obtain information from the nominee's past affiliations, or obtain information from publicly available sources.

The EAC provides advice to MCC on issues related to growth and development in low and middle income countries including:

1. New perspectives on economic development

2. Innovative approaches to growth analytics

3. Innovations in program and project evaluation

4. Applied microeconomics and cost-benefit analytics

5. Poverty and income dynamics

6. Social development and the economics of gender

7. Other innovations in the field of development economics and evaluation

All members of the EAC will be independent of the agency, representing the views and interests of their respective industry or areas of expertise, and not as Special Government Employees. All members shall serve without compensation. The duties of the EAC are solely advisory and any determinations to be made or actions to be taken on the basis of EAC advice shall be made or taken by appropriate officers of MCC.

Nominees selected for appointment to the EAC will be notified by return email and receive a letter of appointment. A selection team will review the nomination packages. Members will be determined by the Vice President for Policy and Evaluation based on criteria including:

(1) Professional experience, and knowledge; (2) academic field and expertise; (3) experience within regions in which MCC works; (4) contribution of diverse regional or technical professional perspectives, and (5) availability and willingness to serve.

In the selection of members for the EAC, MCC will seek to ensure a balanced representation and consider a cross-section of those directly affected, interested, and qualified, as appropriate to the nature and functions of the EAC.

Nominations are open to all individuals without regard to race, color, religion, sex, national origin, age, mental or physical disability, marital status, or sexual orientation.

Dated: July 9, 2019.
Jeanne M. Hauch,
VP/General Counsel and Corporate Secretary.

[FR Doc. 2019-15209 Filed 7-16-19; 8:45 am]

BILLING CODE 9211-03-P